DEPARTMENT OF AGRICULTURE

Food and Nutrition Service

Agency Information Collection Activities; Comment Request: Collection of Contact Information of Schools That Participate in the National School Lunch Program (NSLP) and Organizations That Participate in the USDA's Child and Adult Care Food Program (CACFP) for Sharing Team Nutrition's Nutrition Education, Training, and Technical Assistance Resources

AGENCY: Food and Nutrition Service (FNS), USDA.

ACTION: Notice.

SUMMARY: In accordance with the Paperwork Reduction Act of 1995, this notice invites the general public and other public agencies to comment on this proposed information collection. This is a new collection for facilitating a communication network among CACFP organizations and USDA Food and Nutrition Service (FNS) Child Nutrition Programs, as well as between schools participating in the National School Breakfast Program and National School Lunch programs, both via the Team Nutrition initiative.

DATES: Written comments must be received on or before January 2, 2018.

ADDRESSES: Comments may be sent to: Kaylyn Padovani, Food and Nutrition Service, U.S. Department of Agriculture, 3101 Park Center Drive, Room 628, Alexandria, VA 22302. Comments may also be submitted via fax to the attention of Kaylyn Padovani at 703-305-2549 or via email to TeamNutrition@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Team Nutrition at 703-305-1624.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Collection of Contact Information of Schools That Participate in the National School Lunch Program (NSLP) and Organizations That Participate in the USDA's Child and Adult Care Food Program (CACFP) for Sharing Team Nutrition's Nutrition Education, Training, and Technical Assistance Resources.

Form Number: FNS 891 (Team Nutrition Schools) and FNS 892 (Team Nutrition CACFP Organizations).

OMB Number: 0584—NEW.

Expiration Date: 60 days after publication of this notice.

Type of Request: New collection.

Abstract: Team Nutrition is an initiative of the United States Department of Agriculture's Food and Nutrition Service to support national efforts to promote lifelong healthy food choices and physical activity by improving the nutrition practices of the Child Nutrition Programs, including the Child and Adult Care Food Program (CACFP), the National School Lunch Program (NSLP) and the School Breakfast and Special Milk Programs (SBP and SMP), in addition to the Fresh Fruit and Vegetable Program (FFVP), Afterschool Snacks, and Seamless Summer Option (SSO). This initiative provides resources to schools, child care settings, and summer meal and afterschool sites that participate in these programs.

Team Nutrition uses the Socio-cognitive behavior theory to change behavior through three main strategies. The first is to provide training and technical assistance to child nutrition professionals to enable them to prepare and serve nutritious meals that appeal to children. Team Nutrition also increases opportunities for nutrition education through multiple communication channels to help children gain the knowledge, skills, and motivation to make healthy food and physical activity choices as part of a healthy lifestyle. Finally, Team Nutrition helps to build and bolster support for healthy school and child care environments that encourage nutritious food choices and physically active lifestyles.

Since 1995, Team Nutrition has collected information from schools via the Team Nutrition Database, to communicate releases and updates of Team Nutrition resources. In order to reach CACFP program operators and providers, FNS is expanding the database to collect the contact information of interested CACFP organizations (such as Sponsoring Agencies and Independent Centers). Those eligible entities that choose to input their information into the database, via the online enrollment forms either for Team Nutrition Schools or for Team Nutrition CACFP Organizations, will receive electronic correspondence, such as monthly newsletters and promotions that announce the availability of new and updated Team Nutrition materials that support nutrition education and provide technical assistance to foster an environment of health. This database allows the opportunity for the enrolled entities to affirm their commitment to childhood nutrition & wellness while gives the opportunity to collaborate with other peers.

The collection of the school contact information is currently approved under OMB #0584-0524 Generic Clearance to Conduct Formative Research, which expires on September 30, 2019. Since FNS wants to expand this data collection to include CACFP program operators and providers, FNS is creating a new information collection which will cover both activities. Once this new collection request has been reviewed by the Office of Management and Budget, FNS will remove the burden associated with the Team Nutrition school contact information from OMB #0584-0524.

Affected Public: Business or Other For Profit; Not For Profit; and State, Local and Tribal Government: Respondent groups identified include: (1) Organizations that have a CACFP agreement with the States and (2) Schools that participate in the NSLP.

Estimated Number of Respondents: The total estimated number of respondents is approximately 122,664; 22,664 are CACFP's organizations and 100,000 are schools. For CACFP organizations, the total is broken down as follows: 20,095 CACFP sponsors: Centers only; 791 CACFP sponsors of all home care; and 1,778 CACFP sponsors of adult care.

Estimated Number of Responses per Respondent: The total estimated number of responses per all of the respondents for the entire collection is 2. The CACFP's organization and the schools will be asked to voluntarily complete one (1) enrollment form and submit changes as needed.

Estimated Total Annual Responses: 245,328.

Estimated Time per Response: The estimated time of response varies from 0.083 to 0.25 hour (5-15 minutes), with an average estimated time of 0.13 hour for all participants.

Estimated Total Annual Burden on Respondents: 32,847.11 hours. See the table below for estimated total annual burden for each type of respondent.

Affected public | Respondent type | Estimated number respondent | Responses annually per respondent | Total annual responses (col. bxc) | Estimated average number of hours per response | Estimated total hours (col. dxe)
Reporting Burden
Businesses or Other for Profit, Not-for-Profit | CACFP Organizations (completed form)—CACFP Sponsors: Centers Only | 20,095 | 1 | 20,095 | 0.25 | 5,023.75
| CACFP Organizations (completed form)—CACFP Sponsors of All Home Care | 791 | 1 | 791 | 0.25 | 197.75
| CACFP Organizations (completed form)—CACFP Sponsors of Adult Care | 1,778 | 1 | 1,778 | 0.25 | 444.5
Changes/Updates |  | 22,664 | 1 | 22,664 | 0.083 | 1,881.11
Subtotal of Businesses or Other for Profit, Not-for Profit |  |  |  | 45,328 |  | 7,547.11
State, Local, or Tribal Government | Schools (completed form) | 100,000 | 1 | 100,000 | 0.17 | 17,000
Changes/Updates |  | 100,000 | 1 | 100,000 | 0.083 | 8,300
Subtotal for State, Local, or Tribal Government |  |  |  | 200,000 |  | 25,300
Total Reporting Burden |  | 122,664 |  | 245,328 |  | 32,847.11

Dated: October 23, 2017.
Brandon Lipps,
Administrator, Food and Nutrition Service.

[FR Doc. 2017-23879 Filed 11-1-17; 8:45 am]

BILLING CODE 3410-30-P